DEPARTMENT OF HOMELAND SECURITY

Coast Guard

33 CFR Part 117

[Docket No. USCG-2017-0291]

Drawbridge Operation Regulation; Reynolds Channel, Long Beach, NY

AGENCY: Coast Guard, DHS.

ACTION: Notice of deviation from drawbridge regulation.

SUMMARY: The Coast Guard has issued a temporary deviation from the operating schedule that governs the Long Beach Bridge across Reynolds Channel, mile 4.7, at Long Beach, New York. This deviation is necessary in order to facilitate an annual fireworks display and allows the bridge to remain in the closed position for one hour.

DATES: This deviation is effective from 9:30 p.m. on July 7, 2017 to 10:30 p.m. on July 9, 2017.

ADDRESSES: The docket for this deviation, USCG-2017-0291 is available at http://www.regulations.gov. Type the docket number in the “SEARCH” box and click “SEARCH”. Click on Open Docket Folder on the line associated with this deviation.

FOR FURTHER INFORMATION CONTACT: If you have questions on this temporary deviation, call or email James M. Moore, Bridge Management Specialist, First District Bridge Branch, U.S. Coast Guard; telephone 212-514-4334, email james.m.moore2@uscg.mil.

SUPPLEMENTARY INFORMATION: The City of Long Beach Police Department requested and the bridge owner, Nassau County of Public Works, concurred with a temporary deviation request from the normal operating schedule to facilitate a public fireworks event.

The Long Beach Bridge, mile 4.7, across Reynolds Channel, has a vertical clearance of 22 feet at mean high water and 24 feet at mean low water in the closed position. The existing drawbridge operating regulations are listed at 33 CFR 117.799(g).

This temporary deviation will allow the Long Beach Bridge to remain closed from 9:30 p.m. through 10:30 p.m. on July 7, 2017 with rain dates of July 8, 2017 and July 9, 2017. The waterway is used primarily by seasonal recreational vessels and occasional tug/barge traffic. Coordination with waterway users has indicated no objections to this short-term closure of the draw.

Vessels that can pass under the bridge without an opening may do so at all times. The bridge will be able to open for emergencies. There is no alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: April 24, 2017.
C.J. Bisignano,
Supervisory Bridge Management Specialist, First Coast Guard District.

[FR Doc. 2017-08504 Filed 4-26-17; 8:45 am]

BILLING CODE 9110-04-P